DEPARTMENT OF LABOR

Agency Information Collection Activities; Comment Request; Equal Access to Justice Act

AGENCY: Department of Labor—Office of the Assistant Secretary for Administration and Management (DOL-OASAM).

ACTION: Notice of information collections and request for comments.

SUMMARY: In compliance with the Paperwork Reduction Act of 1995, the DOL is soliciting public comments regarding this OASAM-sponsored information collection to the Office of Management and Budget (OMB) for review and approval.

DATES: Comments pertaining to this information collection are due on or before February 16, 2021.

ADDRESSES:

Electronic submission: You may submit comments and attachments electronically at http://www.regulations.gov. Follow the online instructions for submitting comments.

Mail submission: 200 Constitution Ave. NW, Room S-5315, Washington, DC 2020.

Comments are invited on: (1) Whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION:

The Equal Access to Justice Act (EAJA) (5 United States Code Section 504(a)(2)) provides payment of fees and expenses to eligible parties who have prevailed against a Federal agency in certain administrative proceedings. These requirements are codified in the Department of Labor's regulations in 29 Code of Federal Regulations Part 16, Subpart B. In order to obtain an award, the statute and associated DOL regulations require parties to file an application. Other agencies may have their own EAJA regulations.

The DOL seeks PRA authorization for this information collection for three (3) years. OMB authorization for an Information Collection Review cannot be for more than three (3) years without renewal. The DOL notes that currently approved information collection requirements submitted to the OMB receive a month-to-month extension while they undergo review.

Agency: DOL-OASAM.

Title of Collection: Equal Access to Justice Act.

OMB Control Number: 1225-0013.

Total Estimated Number of Respondents: 10.

Total Estimated Number of Responses: 10.

Total Estimated Annual Time Burden: 50 hours.

Total Estimated Annual Other Costs Burden: $25.

Authority: 44 U.S.C. 3506(c)(2)(A).

Dated: December 9, 2020.
Anthony May,
Management and Program Analyst.

[FR Doc. 2020-27585 Filed 12-14-20; 8:45 am]

BILLING CODE 4510-23-P